DEPARTMENT OF LABOR

Employment and Training Administration

[TA-W-53,077]

Dupont Teijin Films, Florence, SC; Notice of Termination of Investigation

Pursuant to Section 221 of the Trade Act of 1974, an investigation was initiated on October 1, 2003 in response to a worker petition filed by a company official on behalf of workers at DuPont Teijin Films, Florence, South Carolina.

The petitioner has requested that the petition be withdrawn. Consequently, the investigation has been terminated.

Signed in Washington, DC this 24th day of October 2003.
Richard Church,
Certifying Officer, Division of Trade Adjustment Assistance.

[FR Doc. 03-29283 Filed 11-21-03; 8:45 am]

BILLING CODE 4510-30-P